DEPARTMENT OF AGRICULTURE

Grain Inspection, Packers and Stockyards Administration

[02-03-S]

Designation for the Jamestown (ND), Lincoln (NE), Memphis (TN), Omaha (NE), Sioux City (IA), and Tischer (IA) Areas

AGENCY: Grain Inspection, Packers and Stockyards Administration, USDA.

ACTION: Notice.

SUMMARY: Grain Inspection, Packers and Stockyards Administration (GIPSA) announces designation of the following organizations to provide official services under the United States Grain Standards Act, as amended (Act): Grain Inspection, Inc. (Jamestown); Lincoln Inspection Service, Inc. (Lincoln); Memphis Grain Inspection Service (Memphis); Omaha Grain Inspection Service, Inc. (Omaha); Sioux City Inspection and Weighing Service Company (Sioux City); and A. V. Tischer and Son, Inc. (Tischer).

EFFECTIVE DATES: April 1, 2003.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the September 3, 2002, Federal Register (67 FR 56264), GIPSA asked persons interested in providing official services in the geographic areas assigned to the official agencies named above to submit an application for designation. Applications were due by October 1, 2002.

Jamestown, Lincoln, Memphis, Omaha, Sioux City, and Tischer were the sole applicants for designation to provide official services in the entire area currently assigned to them, so GIPSA did not ask for additional comments on them.

GIPSA evaluated all available information regarding the designation criteria in Section 7(f)(1)(A) of the Act and, according to Section 7(f)(1)(B), determined that Jamestown, Lincoln, Memphis, Omaha, Sioux City, and Tischer are able to provide official services in the geographic areas specified in the September 3, 2002, Federal Register, for which they applied. Interested persons may obtain official services by calling the telephone numbers listed below.

Official agency | Headquarters location and telephone | Designation start-end
Jamestown | Jamestown, ND, 701-252-1290 | 04/01/2003-03/31/2006
Lincoln | Lincoln, NE, 402-435-4386 | 04/01/2003-03/31/2006
Memphis | Memphis, TN, 901-942-3216, Additional Service Location: North Little Rock, AR | 04/01/2003-03/31/2006
Omaha | Omaha, NE, 402-341-6739 | 04/01/2003-03/31/2006
Sioux City | Sioux City, IA, 712-255-8073 | 04/01/2003-03/31/2006
Tischer | Fort Dodge, 515-955-7012 | 04/01/2003-03/31/2006

Authority: Pub. L. 94-582, 90 Stat. 2867, as amended (7 U.S.C. 71 et seq.).

Donna Reifschneider,
Administrator, Grain Inspection, Packers and Stockyards Administration.

[FR Doc. 03-4873 Filed 2-28-03; 8:45 am]

BILLING CODE 3410-EN-P